ENVIRONMENTAL PROTECTION AGENCY

[EPA-HQ-OECA-2014-0078; FRL-9925-08-OEI]

Information Collection Request Submitted to OMB for Review and Approval; Comment Request; NESHAP for Metal Coil Surface Coating Plants (Renewal)

AGENCY: Environmental Protection Agency (EPA).

ACTION: Notice.

SUMMARY: The Environmental Protection Agency (EPA) has submitted an information collection request (ICR), “NESHAP for Metal Coil Surface Coating Plants (40 CFR part 63, subpart SSSS) (Renewal)” (EPA ICR No. 1957.07, OMB Control No. 2060-0487) to the Office of Management and Budget (OMB) for review and approval in accordance with the Paperwork Reduction Act (44 U.S.C. 3501 et seq.). This is a proposed extension of the ICR, which is currently approved through April 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 27, 2015.

ADDRESSES: Submit your comments, referencing Docket ID Number EPA-HQ-OECA-2014-0078, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave., NW., Washington, DC. The telephone number for the Docket Center is 202-566-1744. For additional information about EPA's public docket, visit http://www.epa.gov/dockets.

Abstract: This ICR affects respondents from new and existing coil coating line facilities that are major sources of hazardous air pollutant (HAP). Coil coating line is the process in which special equipment is used to apply an organic coating to the surface of metal coils. All NESHAP standards require initial notifications, performance tests, and periodic reports by the owners/operators of the affected facilities. Respondents are also required to maintain records of the occurrence and duration of any startup, shutdown, or malfunction in the operation of an affected facility, or any period during which the monitoring system is inoperative. The provisions of this Subpart do not apply to coil coating lines that are part of research or laboratory equipment, or coil coating lines in which 85 percent of the metal coil coated; unless the coating line is controlled by a common control device. The required semiannual reports are used to determine periods of excess emissions, identify problems at the facility, verify operation/maintenance procedures and for compliance determinations. This information is being collected to assure compliance with 40 CFR part 63, Subpart SSSS.

Form Numbers: None.

Respondents/affected entities: Metal coil surface coating plants.

Respondent's obligation to respond: Mandatory (40 CFR part 63, Subpart SSSS).

Estimated number of respondents: 89 (total).

Frequency of response: Initially, semiannually, and occasionally.

Total estimated burden: 25,145 hours (per year). Burden is defined at 5 CFR 1320.3(b).

Total estimated cost: $2,552,959 (per year), includes $91,200 annualized capital or operation & maintenance costs.

Changes in the Estimates: There is an increase of 5,244 hours in the total estimated respondent burden compared with the ICR currently approved by OMB. This increase is due to an adjustment of burden estimates based on industry comment received from consultation during the renewal of this ICR.

Courtney Kerwin,
Acting Director, Collection Strategies Division.

[FR Doc. 2015-07027 Filed 3-26-15; 8:45 am]

BILLING CODE 6560-50-P